DEPARTMENT OF JUSTICE

Antitrust Division

Notice Pursuant to the National Cooperative Research and Production Act of 1993—Training & Readiness Accelerator II

Notice is hereby given that, on December 1, 2025, pursuant to section 6(a) of the National Cooperative Research and Production Act of 1993, 15 U.S.C. 4301 et seq. (“the Act”), Training & Readiness Accelerator II (“TReX II”) has filed written notifications simultaneously with the Attorney General and the Federal Trade Commission disclosing changes in its membership. The notifications were filed for the purpose of extending the Act's provisions limiting the recovery of antitrust plaintiffs to actual damages under specified circumstances. Specifically, VoiceIt Technologies, Inc. dba EnQuanta, Eden Prairie, MN; C2 Technologies, Inc., McLean, VA; Virtualitics, Pasadena, CA; Pacific Aerospace Consulting, Inc, San Diego, CA; Via Science, Inc., Somerville, MA; Kestrel Intelligence, Eagle, ID; Manan LLC dba Gyrus Systems, Henrico, VA; Defense Operations & Execution Solutions, Inc. (DOES), West Melbourne, FL; Engineering Support Personnel, Inc., Orlando, FL; HiddenLayer, Inc., Leander, TX; Collaboration.AI LLC, Minneapolis, MN; DaaX Technologies, Inc., Santa Clara, CA; Intelligent Payload Solutions, Inc. dba Paper Boat Systems, Colorado Springs, CO; Aviation Resources & Consulting Services, Inc. (ARCS), Cookeville, TN; Productable, Austin, TX; Obviant, Arlington, VA; MAIK APP, Boynton Beach, FL; Newton Design LLC, Catoosa, OK; Snowflake, Inc., Bozeman, MT; Rohirrim, Inc., Tyson's Corner, VA; Kovr.AI, Reston, VA; Imagine Believe Realize LLC, Rockledge, FL; OpenPolicy, Arlington, VA; Dan Solutions, Inc., Arlington, VA; Pryzm Dynamics, Inc., Boston, MA; Saber Technology Solutions LLC, Baltimore, MD; Exa Labs, Inc., San Francisco, CA; Smartronix LLC, Hollywood, MD; One Kappa Corp. (dba Icarus), El Segundo, CA; In-Depth Engineering Corp., Fairfax, VA; Science Systems and Applications, Inc., Lanham, MD; Kratos Unmanned Aerial Systems, Inc., Sacramento, CA; Threat Tech LLC, Hampton, VA; Oak Grove Technologies LLC, Raleigh, NC; Skyline Software Systems, Inc., Herndon, VA; Yurts Technologies, San Rafael, CA; University of Notre Dame, Notre Dame, IN; Vsolvit, Henderson, VA; Universal Solutions International, Inc., Newport News, VA; Eastern Research Group, Inc., Concord, MA; CyberMyte, Sanford, FL; S10 Fitness LLC, San Diego, CA; Liberty Business Associates LLC, Ladson, SC; Titannia Solutions Group, McLean, VA; TITENN, Inc., Orlando, FL; Cryptic Vector LLC, Liberty Township, OH; Limit Labs LLC, Cambridge, MA; Patriot Products LLC, Franklin, IN; Carnegie Mellon University, Pittsburgh, PA; Percival, Inc., Columbia, MD; Eikon Research, Inc., Huntsville, AL; and McKinsey & Company, Washington, DC, have been added as parties to this venture.

Also, Virtualitics, Pasadena, CA; ATA Engineering, Inc., San Diego, CA; Intelligent Training Innovations LLC, Doylestown, PA; Pro-Active Technologies, Inc., Orlando, FL; Universal Solutions International, Inc., Newport News, VA; ThayerMahan, Inc., Groton, CT; dSPACE, Inc., Wixom, MI; Fireline Science LLC, Tempe, AZ; Sensing Strategies, Inc., Pennington, NJ; Joy Lab Consulting LLC, Arvada, CO; Intelligent Training Innovations LLC, Doylestown, PA; SPARC Research LLC, Warrenton, VA; Quantum Research Sciences LLC, Lafayette, IN; Tier 1 Performance Solutions LLC, Covington, KY; Learntowin, Inc., Redwood City, KY; Daax Technologies, Inc., Santa Clara, CA; Dan Solutions, Inc., Arlington, VA; DKW Consulting LLC, Tallahassee, FL; Fuse Federal Enterprise LLC, San Lenadro, CA; Spectral Labs, Inc., San Diego, CA; Treble One LLC, Dayton, OH; Nano Nuclear Energy, Inc., New York, NY; Infiltron Software Suite LLC, Warner Robins, GA; Data Squared USA Inc., Wilmington, DE; Genuen LLC, Lenexa, KS; 6th Dimension, Inc., Madison, AL; Taiga Ventures LLC, Chesterfield, MO; Training Center Pros, Inc., Franklin, TN; General Atomics Aeronautical Systems, Inc., Poway, CA; Kestrel Intelligence, Inc., Boise, ID; Hiddenlayer, Inc., Leander, TX; Engineering Support Personnel, Inc., Orlando, FL; Nightwing Intelligence Solutions LLC, Indialantic, FL; Solers Research Group, Inc., Sanford, FL; Intelligent Decision Sytems, Inc., Clifton, VA; Inspired Engineering Solutions LLC, Niceville, FL; Aptima, Inc., Wolburn, MA; HigherEchelon, Inc., Huntsville, AL; DESE Research, Inc., Huntsville, AL; Nanohmics, Inc., Austin, TX; and True Bear Engineering LLC, Iron Mountain, MI, have withdrawn as parties to this venture.

No other changes have been made in either the membership or planned activity of the group research project. Membership in this group research project remains open, and TReX II intends to file additional written notifications disclosing all changes in membership.

On February 17, 2023, TReX II filed its original notification pursuant to section 6(a) of the Act. The Department of Justice published a notice in the Federal Register pursuant to section 6(b) of the Act on June 13, 2023 (88 FR 38536).

The last notification was filed with the Department on June 5, 2025. A notice was published in the Federal Register pursuant to section 6(b) of the Act on August 13, 2025 (90 FR 38997).

Suzanne Morris,
Deputy Director Civil Enforcement Operations, Antitrust Division.

[FR Doc. 2026-03533 Filed 2-20-26; 8:45 am]

BILLING CODE P